DEPARTMENT OF COMMERCE

National Oceanic and Atmospheric Administration

[I.D. 063003B]

Marine Mammals; File No. 881-1709

AGENCY: National Marine Fisheries Service (NMFS), National Oceanic and Atmospheric Administration (NOAA), Commerce.

ACTION: Issuance of permit.

SUMMARY: Notice is hereby given that Jo-Ann Mellish, Ph.D., University of Alaska Fairbanks and Alaska SeaLife Center, 301 Railway Avenue, P.O. Box 1329, Seward, Alaska 99664, has been issued a permit take tissue samples from harbor seals (Phoca vitulina) and northern fur seals (Callorhinus ursinus) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: On May 1, 2003, notice was published in the Federal Register (84 FR 23286) that a request for a scientific research permit to take the species identified above had been submitted by the above-named individual. The requested permit has been issued under the authority of the Marine Mammal Protection Act of 1972, as amended (16 U.S.C. 1361 et seq.), the Regulations Governing the Taking and Importing of Marine Mammals (50 CFR part 216), and the Fur Seal Act of 1966, as amended (16 U.S.C. 1151 et seq.).

The permit authorizes the collection and receipt of an unlimited number of tissue samples (including, but not limited to, teeth/bone, blubber, muscle, blood, skin, vibrissae, placenta, fetus, reproductive tracts, stomach and intestinal tracts, heart, liver, lungs, kidney and other vital organs) taken from carcasses of harbor seals and northern fur seals that were killed during legal subsistence hunts in Alaska. The purposes of the research are to determine contaminant loads in tissues to study whether exposure to contaminants may be a contributing factor to poor survival and reproduction of these species, and to determine steroid hormone levels in the tissues of these species to develop methods to study the reproductive rate and population structure of marine mammals. Tissues collected from subsistence hunts and from stranded animals may be exported (and re-imported) to Canada for analyses and to other countries world-wide for future opportunistic research is also authorized. The permit has been issued for a five-year period.

Dated: July 11, 2003.
Stephen L. Leathery,
Chief, Permits, Conservation and Education Division, Office of Protected Resources, National Marine Fisheries Service.

[FR Doc. 03-18338 Filed 7-17-03; 8:45 am]

BILLING CODE 3510-22-S